DEPARTMENT OF COMMERCE

International Trade Administration

[C-570-971]

Multilayered Wood Flooring From the People's Republic of China: Preliminary Results of Countervailing Duty Administrative Review and Intent To Rescind the Review in Part; 2012

AGENCY: Enforcement and Compliance, International Trade Administration, Department of Commerce.

SUMMARY: The Department of Commerce (the Department) is conducting an administrative review of the countervailing duty (CVD) order on multilayered wood flooring (wood flooring) from the People's Republic of China (PRC). The period of review (POR) is January 1, 2012, through December 31, 2012. We preliminarily find that the mandatory respondents Fine Furniture (Shanghai) Limited (Fine Furniture) and The Lizhong Wood Industry Limited Company of Shanghai (Lizhong) (also known as “Shanghai Lizhong Wood Products Co., Ltd.”) received countervailable subsidies during the POR. We also intend to rescind the review of one company, Changzhou Hawd Flooring Co., Ltd. (Changzhou), which timely certified that it had no shipments of subject merchandise to the United States during the POR. Interested parties are invited to comment on these preliminary results.

DATES: Effective Date: January 7, 2015.

FOR FURTHER INFORMATION CONTACT: Mary Kolberg or Joshua Morris, AD/CVD Operations, Office I, Enforcement and Compliance, International Trade Administration, U.S. Department of Commerce, 14th Street and Constitution Avenue NW., Washington, DC 20230; telephone: (202) 482-1785 or (202) 482-1779, respectively.

Scope of the Order

Multilayered wood flooring is composed of an assembly of two or more layers or plies of wood veneer(s) ¹ in combination with a core. Imports of the subject merchandise are provided for under the following subheadings of the Harmonized Tariff Schedule of the United States (HTSUS): 4412.31.0520; 4412.31.0540; 4412.31.0560; 4412.31.2510; 4412.31.2520; 4412.31.4040; 4412.31.4050; 4412.31.4060; 4412.31.4070; 4412.31.5125; 4412.31.5135; 4412.31.5155; 4412.31.5165; 4412.31.6000; 4412.31.9100; 4412.32.0520; 4412.32.0540; 4412.32.0560; 4412.32.2510; 4412.32.2520; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5710; 4412.99.6000; 4412.99.7000; 4412.99.8000; 4412.99.9000; 4412.99.9500; 4418.71.2000; 4418.71.9000; 4418.72.2000; and 4418.72.9500.

¹ A “veneer” is a thin slice of wood, rotary cut, sliced or sawed from a log, bolt or flitch. Veneer is referred to as a ply when assembled.

While HTSUS subheadings are provided for convenience and customs purposes, the written product description remains dispositive.

A full description of the scope of the order is contained in the memorandum from Gary Taverman, Associate Deputy Assistant Secretary for Antidumping and Countervailing Duty Operations, to Paul Piquado, Assistant Secretary for Enforcement and Compliance, “Decision Memorandum for Preliminary Results of Countervailing Duty Administrative Review: Multilayered Wood Flooring from the People's Republic of China” dated concurrently with this notice (Preliminary Decision Memorandum), which is hereby adopted by this notice.

The Preliminary Decision Memorandum is a public document and is on file electronically via Enforcement and Compliance's Antidumping and Countervailing Duty Centralized Electronic Service System (ACCESS).² ACCESS is available to registered users at https://access.trade.gov and in the Central Records Unit, Room 7046 of the main Department building. In addition, a complete version of the Preliminary Decision Memorandum can be accessed directly on the internet at http://enforcement.trade.gov/frn/index.html. The signed Preliminary Decision Memorandum and the electronic versions of the Preliminary Decision Memorandum are identical in content.

² On November 24, 2014, Enforcement and Compliance changed the name of Enforcement and Compliance's AD and CVD Centralized Electronic Service System (“IA ACCESS”) to AD and CVD Centralized Electronic Service System (“ACCESS”). The Web site location was changed from http://iaaccess.trade.gov to http://access.trade.gov. The Final Rule changing the references to the Regulations can be found at 79 FR 69046 (November 20, 2014).

Intent To Rescind Administrative Review, in Part

On April 4, 2014, we received a timely filed no-shipment certification from Changzhou. Because there is no evidence on the record to indicate that this company had entries of subject merchandise during the POR, pursuant to 19 CFR 351.213(d)(3), we intend to rescind the review with respect to Changzhou. A final decision regarding whether to rescind the review of this company will be made in the final results of this review.

Methodology

We have conducted this review in accordance with section 751(a)(1)(A) of the Tariff Act of 1930, as amended (the Act). For each of the subsidy programs found countervailable, we preliminarily find that there is a subsidy, i.e., a government-provided financial contribution that gives rise to a benefit to the recipient, and that the subsidy is specific.³ For a full description of the methodology underlying our conclusions, see Preliminary Decision Memorandum.

³ See sections 771(5)(B) and (D) of the Act regarding financial contribution; section 771(5)(E) of the Act regarding benefit; and, section 771(5A) of the Act regarding specificity.

We were not able to make a preliminary determination concerning the countervailability of certain programs because we require additional information.⁴ We intend to seek that information prior to our final results and issue a post-preliminary decision reflecting our review and analysis of that information.

⁴ See Preliminary Decision Memorandum at “Analysis of Programs—II. Programs For Which More Information Is Required.”

Preliminary Results of the Review

In accordance with 19 CFR 351.221(b)(4)(i), we calculated a countervailable subsidy rate for each of the mandatory respondents, Fine Furniture and Lizhong.

For the non-selected respondents, we have followed the Department's practice, which is to base the subsidy rates on an average of the subsidy rates calculated for those companies selected for individual review, excluding de minimis rates or rates based entirely on adverse facts available.⁵ We have preliminarily assigned to the non-selected respondents the simple average of the rates calculated for Fine Furniture and Lizhong. We have used a simple average rather than a weighted average due to inconsistent units of measure in the publicly ranged quantity and value data.

⁵ See, e.g., Certain Pasta From Italy: Preliminary Results of the 13th (2008) Countervailing Duty Administrative Review, 75 FR 18806, 18811 (April 13, 2010), unchanged in Certain Pasta from Italy: Final Results of the 13th (2008) Countervailing Duty Administrative Review, 75 FR 37386 (June 29, 2010).

We preliminarily find the countervailable subsidy rates for the producers/exporters under review to be as follows:

Producer/exporter | Net subsidy rate (percent)
Shanghai Lizhong Wood Products Co., Ltd (aka The Lizhong Wood Industry Limited Company of Shanghai); Linyi Youyou Wood Co., Ltd | 0.95
Fine Furniture (Shanghai) Limited; Great Wood (Tonghua) Limited; FF Plantation (Shishou) Limited | 0.99
A&W (Shanghai) Woods Co., Ltd | 0.97
Anhui Suzhou Dongda Wood Co., Ltd | 0.97
Armstrong Wood Products (Kunshan) Co., Ltd | 0.97
Baishan Huafeng Wood Product Co., Ltd | 0.97
Baiying Furniture Manufacturer Co., Ltd | 0.97
Baroque Timber Industries (Zhongshan) Co., Ltd | 0.97
Changbai Mountain Development and Protection Zone Hongtu Wood Industrial Co., Ltd | 0.97
Chinafloors Timber (China) Co., Ltd | 0.97
Dalian Dajen Wood Co., Ltd | 0.97
Dalien Huade Wood Product Co., Ltd | 0.97
Dalian Huilong Wooden Products Co., Ltd | 0.97
Dalian Jiuyuan Wood Industry Co., Ltd | 0.97
Dalian Kemian Wood Industry Co., Ltd | 0.97
Dalian Penghong Floor Products Co., Ltd | 0.97
Dalian T-Boom Wood Products Co., Ltd | 0.97
Dongtai Fuan Universal Dynamics, LLC | 0.97
Dun Hua City Jisen Wood Industry Co., Ltd | 0.97
Dunhua City Dexin Wood Industry Co., Ltd | 0.97
Dunhua City Hongyuan Wood Industry Co., Ltd | 0.97
Dunhua City Wanrong Wood Industry Co., Ltd | 0.97
Dunhua Sentai Wood Co., Ltd | 0.97
Dunhua Shengda Wood Industry Co., Ltd | 0.97
Fu Lik Timber (HK) Co., Ltd | 0.97
Fusong Jinlong Wooden Group Co., Ltd | 0.97
Fusong Qianqiu Wooden Product Co., Ltd | 0.97
GTP International Ltd | 0.97
Guangdong Yihua Timber Industry Co., Ltd | 0.97
Guangzhou Homebon Timber Manufacturing Co., Ltd | 0.97
Guangzhou Panyu Kangda Board Co., Ltd | 0.97
Guangzhou Panyu Southern Star Co., Ltd | 0.97
HaiLin XinCheng Wooden Products, Ltd | 0.97
Hangzhou Dazhuang Floor Co., Ltd (dba Dasso Industrial Group Co., Ltd) | 0.97
Hangzhou Hanje Tec Co., Ltd | 0.97
Hangzhou Zhengtian Industrial Co., Ltd | 0.97
Hunchun Forest Wolf Wooden Industry Co., Ltd | 0.97
Hunchun Xingjia Wooden Flooring Inc | 0.97
Huzhou Chenghang Wood Co., Ltd | 0.97
Huzhou Fulinmen Imp. & Exp. Co., Ltd | 0.97
Huzhou Fuma Wood Co., Ltd | 0.97
Huzhou Jesonwood Co., Ltd | 0.97
Huzhou Ruifeng Imp. & Exp. Co., Ltd | 0.97
Huzhou Sunergy World Trade Co., Ltd | 0.97
Jiafeng Wood (Suzhou) Co., Ltd | 0.97
Jiangsu Senmao Bamboo and Wood Industry Co., Ltd | 0.97
Jiangsu Simba Flooring Co., Ltd | 0.97
Jiashan Hui Jia Le Decoration Material Co., Ltd | 0.97
Jilin Forest Industry Jinqiao Flooring Group Co., Ltd | 0.97
Jilin Xinyuan Wooden Industry Co., Ltd | 0.97
Karly Wood Product Limited | 0.97
Kemian Wood Industry (Kunshan) Co., Ltd | 0.97
Linyi Anying Wood Co., Ltd | 0.97
Linyi Bonn Flooring Manufacturing Co., Ltd | 0.97
Mudanjiang Bosen Wood Industry Co., Ltd | 0.97
Nakahiro Jyou Sei Furniture (Dalian) Co., Ltd | 0.97
Nanjing Minglin Wooden Industry Co., Ltd | 0.97
Power Dekor Group Co., Ltd | 0.97
Riverside Plywood Corporation | 0.97
Samling Elegant Living Trading (Labuan) Limited | 0.97
Samling Riverside Co., Ltd | 0.97
Shanghai Anxin (Weiguang) Timber Co., Ltd | 0.97
Shanghai Eswell Timber Co., Ltd | 0.97
Shanghai Lairunde Wood Co., Ltd | 0.97
Shanghai New Sihe Wood Co., Ltd | 0.97
Shanghai Shenlin Corporation | 0.97
Shenyang Haobainian Wooden Co., Ltd | 0.97
Shenzhenshi Huanwei Woods Co., Ltd | 0.97
Vicwood Industry (Suzhou) Co. Ltd | 0.97
Xiamen Yung De Ornament Co., Ltd | 0.97
Xuzhou Shenghe Wood Co., Ltd | 0.97
Yekalon Industry, Inc | 0.97
Yingyi-Nature (Kunshan) Wood Industry Co., Ltd | 0.97
Yixing Lion-King Timber Industry | 0.97
Zhejiang Anji Xinfeng Bamboo and Wood Co., Ltd | 0.97
Zhejiang Biyork Wood Co., Ltd | 0.97
Zhejiang Dadongwu Green Home Wood Co., Ltd | 0.97
Zhejiang Desheng Wood Industry Co., Ltd | 0.97
Zhejiang Fudeli Timber Industry Co., Ltd | 0.97
Zhejiang Fuerjia Wooden Co., Ltd | 0.97
Zhejiang Fuma Warm Technology Co., Ltd | 0.97
Zhejiang Haoyun Wooden Co., Ltd | 0.97
Zhejiang Longsen Lumbering Co., Ltd | 0.97
Zhejiang Shiyou Timber Co., Ltd | 0.97
Zhejiang Tianzhen Bamboo & Wood Development Co., Ltd | 0.97

Disclosure and Public Comment

We will disclose to parties in this proceeding the calculations performed in reaching the preliminary results within five days of the date of public announcement of these preliminary results.⁶ As a result of the Department's intention to release a post-preliminary analysis memorandum, interested parties may submit written comments (case briefs) on the preliminary results and the post-preliminary analysis memorandum no later than one week after the issuance of the post-preliminary analysis memorandum, and rebuttal comments (rebuttal briefs) within five days after the time limit for filing case briefs.⁷ Pursuant to 19 CFR 351.309(d)(2), rebuttal briefs must be limited to issues raised in the case briefs. Parties who submit arguments are requested to submit with the argument: (1) A statement of the issue; (2) a brief summary of the argument; and (3) a table of authorities.

⁶ See 19 CFR 351.224(b).

⁷ See 19 CFR 351.309(c)(1)(ii) and 351.309(d)(1).

Interested parties who wish to request a hearing, or to participate if one is requested, must submit a written request to the Assistant Secretary for Enforcement and Compliance, U.S. Department of Commerce within 30 days after the date of publication of this notice.⁸ Requests should contain the party's name, address, and telephone number, the number of participants, and a list of the issues to be discussed. If the Department receives a request for a hearing, we will inform parties of the scheduled date for the hearing which will be held at the U.S. Department of Commerce, 14th Street and Constitution Avenue NW, Washington, DC 20230, at a time and location to be determined.⁹ Parties should confirm by telephone the date, time, and location of the hearing.

⁸ See 19 CFR 351.310(c).

⁹ See 19 CFR 351.310.

Parties are reminded that briefs and hearing requests are to be filed electronically using ACCESS and that electronically filed documents must be received successfully in their entirety by 5 p.m. Eastern Time on the due date.

Unless the deadline is extended pursuant to section 751(a)(3)(A) of the Act, we intend to issue the final results of this administrative review, including the results of our analysis of the issues raised by the parties in their comments, within 120 days after publication of these preliminary results.

Assessment Rates

Consistent with section 751(a)(1) of the Act, upon issuance of the final results, the Department shall determine, and U.S. Customs and Border Protection (CBP) shall assess, countervailing duties on all appropriate entries covered by this review. We intend to issue instructions to CBP 15 days after publication of the final results of this review.

Cash Deposit Requirements

Also in accordance with section 751(a)(1) of the Act, the Department intends to instruct CBP to collect cash deposits of estimated countervailing duties in the amounts shown above for each of the respective companies listed above. For all non-reviewed firms, we will instruct CBP to continue to collect cash deposits at the most recent company specific or all-others rate applicable to the company. These cash deposit requirements, when imposed, shall remain in effect until further notice.

This administrative review and notice are in accordance with sections 751(a)(1) and 777(i) of the Act and 19 CFR 351.213.

Dated: December 30, 2014.
Paul Piquado,
Assistant Secretary for Enforcement and Compliance.

Appendix—List of Topics Discussed in the Preliminary Decision Memorandum:

1. Summary

2. Background

3. Scope of the Order

4. Intent to Partially Rescind Administrative Review

5. Subsidies Valuation Information

6. Analysis of Programs

7. Recommendation

[FR Doc. 2015-00037 Filed 1-6-15; 8:45 am]

BILLING CODE 3510-DS-P